DEPARTMENT OF AGRICULTURE

Forest Service

Notice of New Recreation Fee; Federal Lands Recreation Enhancement Act

AGENCY: Forest Service, USDA.

ACTION: Notice of new recreation fee.

SUMMARY: The Tonto National Forest is giving notice of a new recreation fee for an onsite option to purchase the daily Tonto Pass and watercraft sticker. The new onsite fee is $12 for the daily Tonto Pass and $6 for watercraft sticker. The new fee provides an option for people to pay when they arrive at the site, which is not currently unavailable. The fee will be collected using electronic fee machines installed at key recreation sites.

DATES: Date of Implementation: This new fee will go into effect no earlier than December 28, 2015.

SUPPLEMENTARY INFORMATION: This new fee is part of a larger fee modification proposal on the Tonto National Forest. The 2014 Recreation Fee Proposal can be found on the Tonto National Forest Web site at: http://www.fs.usda.gov/detail/tonto/home/?cid=STELPRDB5405154.

The onsite pass purchase option is being implemented in response to an identified public request to provide a convenient method of purchasing recreation passes within recreation sites.

Onsite fee machines in remote locations have high operations and maintenance costs. Lower priced Tonto passes and watercraft stickers can still be purchased off-site at over 200 retail vendors or online.

The Federal Lands Recreation Enhancement Act (Title VII, Pub. L. 108-447) directs the Secretary of Agriculture to publish a six month advance notice in the Federal Register whenever new recreation fee areas are established. This new fee, as well as the fee changes proposed in the larger fee proposal, were reviewed and recommended by the BLM Arizona Recreation Resource Advisory Council (R-RAC) on June 4, 2015.

FOR FURTHER INFORMATION CONTACT: Greg Schuster at 620-225-5200 or by email at tonto_recreation@fs.fed.us. Information about the 2014 Recreation Fee Proposal can also be found on the Tonto National Forest Web site: http://www.fs.usda.gov/detail/tonto/home/?cid=STELPRDB5405154.

Dated: June 17, 2015.
Kerwin Dewberry,
Deputy Forest Supervisor, Tonto National Forest.

[FR Doc. 2015-15596 Filed 6-26-15; 8:45 am]

BILLING CODE 3410-11-P